FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than June 4, 2013.

A. Federal Reserve Bank of Dallas (E. Ann Worthy, Vice President) 2200 North Pearl Street, Dallas, Texas 75201-2272:

1. Ray Mark Bain, Lubbock, Texas, individually, as co-trustee of the RMB 2012 Family Trust, trustee of the Ray Mark Bain 2007 Trust, and trustee of the Ray Mark Bain Children's Trust; Michael Lewis Bain, Canyon, Texas, individually, as co-trustee of the RMB 2012 Family Trust, trustee of the Michael L. Bain 2007 Trust, and trustee of the Michael L. Bain Children's Trust; and Nancy Bain Seybert, Perryton, Texas, individually, as trustee of the Nancy Bain Seybert 2007 Trust, and trustee of the Nancy Bain Seybert Children's Trust; Dimmitt, Texas; collectively a group acting in concert, to control, retain and acquire greater than 25 percent of Plains Bancorp, Inc., Dimmitt, Texas, and therefore, indirectly acquire voting shares of First United Bank, Dimmitt, Texas.

Board of Governors of the Federal Reserve System, May 20, 2013.
Margaret McCloskey Shanks,
Deputy Secretary of the Board.

[FR Doc. 2013-12364 Filed 5-23-13; 8:45 am]

BILLING CODE 6210-01-P